DEPARTMENT OF TRANSPORTATION

Federal Aviation Administration

[Docket No. FAA-2005-22997]

RIN 2120-AI23

Reduction of Fuel Tank Flammability in Transport Category Airplanes

AGENCY: Federal Aviation Administration (FAA), DOT.

ACTION: Notice of availability and request for comments.

SUMMARY: This notice announces the availability of and request for comments on the following documents:

• “Peer Review of Sandia National Laboratories ‘Assessment of Preventing Ignition Sources With SFAR 88 Airworthiness Directives’.”

• FAA Disposition of “Peer Review of Sandia National Laboratories ‘Assessment of Preventing Ignition Sources With SFAR 88 Airworthiness Directives’.”

• “Peer Review Document DOT/FAA/AR-05/8 Fuel Tank Flammability Assessment Method User's Manual.”

• FAA Disposition of “Peer Review Document DOT/FAA/AR-05/8 Fuel Tank Flammability Assessment Method User's Manual.”

The FAA is making available these documents to support its Notice of Proposed Rulemaking (NPRM) entitled “Reduction of Fuel Tank Flammability in Transport Category Airplanes.” The NPRM and these documents can be found at the DOT Docket Web site, at http://dms.dot.gov, Docket No. FAA-2005-22997.

DATES: Comments must be received on or before May 8, 2006.

ADDRESSES: You may send comments, identified by Docket No. FAA-2005-22997, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

FOR FURTHER INFORMATION CONTACT: Michael E. Dostert, FAA, Propulsion/Mechanical Systems Branch (ANM-112), Transport Airplane Directorate, Aircraft Certification Service, 1601 Lind Avenue, SW., Renton, Washington 98055-4056; telephone (425) 227-2132, facsimile (425) 227-1320; e-mail: mike.dostert@faa.gov.

Comments Invited

Interested parties are invited to submit comments on these documents. Commenters must submit comments to the address specified above. The FAA will consider all communications received on or before the closing date for comments.

Discussion

The FAA commissioned peer reviews of two reports related to the NPRM we issued on November 17, 2005, “Reduction of Fuel Tank Flammability in Transport Category Airplanes” (70 FR 70922, November 23, 2005). Those reports are entitled, “The Fuel Tank Flammability Assessment Method” and the “Assessment of Preventing Ignition Sources with SFAR 88 Airworthiness Directives.” The peer reviews have been completed and have been sent to the FAA, and the FAA has finished its disposition of the findings from these peer reviews.

The peer reviews and dispositions are required by the Office of Management and Budget's (OMB's) “Final Information Quality Bulletin for Peer Review.” The FAA is adding peer review reports and our dispositions to the public docket so the public will have an opportunity to view the documents and to add their comments to the docket.

The NPRM, the reports and the peer reviews can be found at the DOT Docket Web site, at http://dms.dot.gov, Docket No. FAA-2005-22997.

Issued in Washington, DC on March 27, 2006.
Anthony F. Fazio,
Director, FAA Office of Rulemaking.

[FR Doc. E6-4790 Filed 3-31-06; 8:45 am]

BILLING CODE 4910-13-P